POSTAL SERVICE

39 CFR Part 111

Special Handling—Fragile Discontinued

AGENCY: Postal Service™.

ACTION: Proposed rule.

SUMMARY: The Postal Service is proposing to amend Mailing Standards of the United States Postal Service, Domestic Mail Manual (DMM®) in various sections to discontinue the Special Handling—Fragile extra service.

DATES: Submit comments on or before May 20, 2022.

ADDRESSES: Mail or deliver written comments to the Director, Product Classification, U.S. Postal Service, 475 L'Enfant Plaza SW, Room 4446, Washington, DC 20260-5015. If sending comments by email, include the name and address of the commenter and send to PCFederalRegister@usps.gov, with a subject line of “Special Handling—Fragile Discontinued”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC, 20260. These records are available for review on Monday through Friday, 9 a.m.—4 p.m., by calling 202-268-2906.

FOR FURTHER INFORMATION CONTACT: Karen F. Key at (202) 268-7492 or Garry Rodriguez at (202) 268-7281.

SUPPLEMENTARY INFORMATION: The Postal Service is proposing to discontinue the Special Handling—Fragile extra service. An investigation has revealed that operational procedures do not support the preferential handling of Special Handling—Fragile items.

The Postal Service continues to strive to build and maintain a loyal relationship with its customers and provide products and services with integrity. However, with the execution gaps that currently exist with Special Handling—Fragile, the Postal Service believes it is in the best interest to discontinue the Special Handling-Fragile extra service.

The decision to discontinue Special Handling—Fragile will not affect live animals tendered to the Postal Service as provided in Publication 52—Hazardous, Restricted, and Perishable Mail.

In addition, the Postal Service is proposing to revise the applicable Quick Service Guides (QSG), Price List (Notice 123), and Publication 52, to reflect this DMM revision.

The Postal Service is proposing to implement this change effective July 10, 2022.

We believe the proposed revision will provide customers with a more efficient mailing experience.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1)

PART 111—[AMENDED]

1. The authority citation for 39 CFR part 111 continues to read as follows:

Authority: 5 U.S.C. 552(a); 13 U.S.C. 301-307; 18 U.S.C. 1692-1737; 39 U.S.C. 101, 401—404, 414, 416, 3001-3018, 3201-3220, 3401-3406, 3621, 3622, 3626, 3629, 3631—3633, 3641, 3681-3685, and 5001.

2. Revise the Mailing Standards of the United States Postal Service, Domestic Mail Manual (DMM) to read as follows:

Mailing Standards of the United States Postal Service, Domestic Mail Manual (DMM)

* * * * *

500 Additional Services

503 Extra Services

1.0 Basic Standards for All Extra Services

* * * * *

1.4 Eligibility for Extra Services

* * * * *

1.4.1 Eligibility—Domestic Mail

* * * * *

Exhibit 1.4.1 Eligibility—Domestic Mail

[Delete the “Special Handling—Fragile” extra service item in its entirety.]

[Under the “Additional Combined Extra Services” column delete “Special Handling—Fragile” from the “Insurance”, “Certificate of Mailing”, “Certificate of Bulk Mailing”, “Return Receipt”, “Signature Confirmation”, “Signature Confirmation Restricted Delivery”, and “Collect on Delivery” extra service items.]

* * * * *

[Delete section 10.0, Special Handling—Fragile, in its entirety.]

* * * * *

1.4.2 Eligibility—Other Domestic Mail

* * * * *

Exhibit 1.4.2 Eligibility—Other Domestic Mail

* * * * *

[Delete the Special Handling—Fragile line item in its entirety.]

* * * * *

507 Mailer Services

* * * * *

1.0 Treatment of Mail

* * * * *

1.3 Directory Service

USPS letter carrier offices give directory service to the types of mail listed below that have an insufficient address or cannot be delivered at the address given (the USPS does not compile a directory of any kind):

[Revise the text of item a to read as follows:]

a. Mail with extra services (certified, COD [excluding COD Hold For Pickup mailpieces], registered).

* * * * *

1.4 Basic Treatment

* * * * *

1.4.5 Extra Services

Mail with extra services is treated according to the charts for each class of mail in 1.5, except that:

* * * * *

[Delete item c in its entirety and renumber item d as item c.]

* * * * *

2.0 Forwarding

* * * * *

2.3 Postage for Forwarding

* * * * *

2.3.7 Extra Services

[Revise the text of 2.3.7 to read as follows:]

Certified, collect on delivery (COD) (excluding COD Hold For Pickup mailpieces), USPS Tracking, insured, registered, Signature Confirmation, and Adult Signature mail is forwarded to a domestic address only without additional extra service fees, subject to the applicable postage charge.

* * * * *

600 Basic Standards for All Mailing Standards

* * * * *

604 Postage Payment Methods and Refunds

1.0 Stamps

* * * * *

1.3 Postage Stamps Invalid for Use

The following are not valid to pay postage for U.S. domestic or U.S.-originated international mail:

[Revise the text of item a to read as follows:]

a. Postage due, special delivery, and Certified Mail stamps.

* * * * *

4.0 Postage Meters and PC Postage Products (“Postage Evidencing Systems”)

* * * * *

4.6 Mailings

4.6.1 Mailing Date Format

* * * The mailing date format used in the indicia is also subject to the following conditions.

a. Complete Date. Mailers must use a complete date for the following:

* * * * *

[Revise the text of item a2 to read as follows:]

2. All mailpieces with Insured Mail or COD service.

* * * * *

9.0 Exchanges and Refunds

* * * * *

9.2 Postage and Fee Refunds

* * * * *

9.2.3 Full Refund

A full refund (100%) may be made when:

* * * * *

[Revise the text of item e to read as follows:]

e. Fees are paid for Certified Mail services, USPS Tracking, or USPS Signature Services, and the article fails to receive the extra service for which the fee is paid.

* * * * *

700 Special Standards

703 Nonprofit USPS Marketing Mail and Other Unique Eligibility

* * * * *

2.0 Overseas Military and Diplomatic Post Office Mail

* * * * *

2.5 Parcel Airlift (PAL)

* * * * *

2.5.5 Additional Services

The following extra services may be combined with PAL if the applicable standards for the services are met and the additional service fees paid:

* * * * *

[Delete item “e” in its entirety.]

* * * * *

3.0 Department of State Mail

* * * * *

3.2 Conditions For Authorized Mail

* * * * *

3.2.6 Extra Services

* * * * *

[Delete item e and renumber item f as item e.]

* * * * *

9.0 Mixed Classes

* * * * *

9.13 Extra Services for Mixed Classes

[Delete 9.13.1 in its entirety and renumber items 9.13.2 and 9.13.3 as 9.13.1 and 9.13.2.]

* * * * *

705 Advanced Preparation and Special Postage Payment Systems

* * * * *

18.0 Priority Mail Express Open and Distribute and Priority Mail Open and Distribute

* * * * *

18.3 Additional Standards for Priority Mail Express Open and Distribute

* * * * *

18.3.2 Extra Services

No extra services may be added to the Priority Mail Express segment of a Priority Mail Express Open and Distribute shipment, and the enclosed mail may receive only the following extra services:

[Revise the text of items a and b to read as follows:]

a. First-Class Mail pieces may be sent with Certified Mail service or, for parcels only, USPS Tracking or Signature Confirmation service.

b. Priority Mail pieces may be sent with Certified Mail service, USPS Tracking, or Signature Confirmation service.

* * * * *

[Revise the text of item d to read as follows:]

d. Parcel Select, USPS Retail Ground and Package Services mail may be sent with, for parcels only, USPS Tracking or Signature Confirmation service.

18.4 Additional Standards for Priority Mail Open and Distribute

* * * * *

18.4.2 Extra Services

No extra services are available for Priority Mail Open and Distribute containers. The mail enclosed in the container may receive only the following services:

[Revise the text of item a to read as follows:]

a. First-Class Mail pieces may be sent with Certified Mail service or special handling or, for parcels only, USPS Tracking or Signature Confirmation service.

* * * * *

[Revise the text of item c to read as follows:]

c. Parcel Select and Package Services mail may be sent with, for parcels only, USPS Tracking or Signature Confirmation service.

* * * * *

Joshua J. Hofer,
Attorney, Ethics & Legal Compliance.

[FR Doc. 2022-07829 Filed 4-19-22; 8:45 am]

BILLING CODE 7710-12-P